DEPARTMENT OF HOUSING AND URBAN DEVELOPMENT

[Docket No. FR-5849-N-06]

Notice of a Federal Advisory Committee Manufactured Housing Consensus Committee Technical Systems Subcommittee Teleconference

AGENCY: Office of the Assistant Secretary for Housing—Federal Housing Commissioner, Department of Housing and Urban Development (HUD).

ACTION: Notice of a Federal Advisory Meeting.

SUMMARY: This notice sets forth the schedule and proposed agenda for a teleconference meeting of the Manufactured Housing Consensus Committee (MHCC), Technical Systems Subcommittee. The teleconference meeting is open to the public. The agenda provides an opportunity for citizens to comment on the business before the MHCC.

DATES: The teleconference meeting will be held on December 2, 2015, 1:00 p.m. to 4:00 p.m. Eastern Daylight Time (EDT). The teleconference numbers are: US toll-free: 1-866-622-8461, Participant Code: 4325434.

FOR FURTHER INFORMATION CONTACT: Pamela Beck Danner, Administrator and Designated Federal Official (DFO), Office of Manufactured Housing Programs, Department of Housing and Urban Development, 451 Seventh Street SW., Room 9166, Washington, DC 20410, telephone 202-708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974, (42 U.S.C. 5401 et seq.) as amended by the Manufactured Housing Improvement Act of 2000 (Pub. L. 106-569). According to 42 U.S.C. 5403, as amended, the purposes of the MHCC are to:

• Provide periodic recommendations to the Secretary to adopt, revise, and interpret the Federal manufactured housing construction and safety standards;

• Provide periodic recommendations to the Secretary to adopt, revise, and interpret the procedural and enforcement regulations, including regulations specifying the permissible scope and conduct of monitoring; and

• Be organized and carry out its business in a manner that guarantees a fair opportunity for the expression and consideration of various positions and for public participation.

The MHCC is deemed an advisory committee not composed of Federal employees.

Public Comment: Citizens wishing to make oral comments on the business of the MHCC are encouraged to register by or before November 24, 2015, by contacting Home Innovation Research Labs., 400 Prince Georges Boulevard, Upper Marlboro, MD 20774; Attention: Kevin Kauffman, or email to: MHCC@homeinnovation.com or call 1-888-602-4663. Written comments are encouraged. The MHCC strives to accommodate citizen comments to the extent possible within the time constraints of the meeting agenda. Advance registration is strongly encouraged. The MHCC will also provide an opportunity for public comment on specific matters before the Technical Systems Subcommittee.

Tentative Agenda:

December 2, 2015, from 1:00 p.m. to 4:00 p.m. Eastern Daylight Time (EDT).

I. Call to Order and Roll Call

II. Opening Remarks: Subcommittee Chair and DFO

III. Approve Minutes from December 4, 2014, Technical Systems Subcommittee

IV. New Business:

• Log 116—NFPA 54 National Fuel Gas Code

• Log 118—UL 60335-2-40, Safety of Household and Similar Electrical Appliances, Part 2-34: Particular Requirements for Motor-Compressors

V. Referenced Standards for Review

• ANSI/ASHRAE 62.2, Ventilation and Acceptable indoor Air Quality in Low-Rise Residential buildings

• ASTM E96, Standard Test Methods For Water Vapor Transmission of Materials

• NFPA 70, National Electrical Code

VI. Open Discussion

VII. Public Comments

VIII. Adjourn 4:00 p.m.

Dated: October 28, 2015.
Pamela Beck Danner,
Administrator, Office of Manufactured Housing Programs.

[FR Doc. 2015-28001 Filed 11-2-15; 8:45 am]

BILLING CODE 4210-67-P